DEPARTMENT OF THE INTERIOR

Bureau of Reclamation

Battle Creek Salmon and Steelhead Restoration Project, Tehama and Shasta Counties, CA

AGENCY: Bureau of Reclamation, Interior.

ACTION: Notice of change to public hearing date for the Draft Environmental Impact Statement/Environmental Impact Report (EIS/EIR).

SUMMARY: The Bureau of Reclamation (Reclamation), the lead Federal agency; the Federal Energy Regulatory Commission, a cooperating Federal agency and the State Water Resources Control Board (SWRCB), the State lead agency, are changing the public hearing date for the Draft EIS/EIR from August 12, 2003, to August 27, 2003. The notice of availability of the Draft EIS/EIR and notice of public workshop and notice of public hearing was published in the Federal Register on July 18, 2003 (68 FR 42758-42759).

DATES: The public hearing for the Draft EIS/EIR will be held on August 27, 2003, from 6 p.m. to 8:30 p.m. at the address below.

ADDRESSES: The public hearing will be held at the Manton Grange, 31557 Forward Road, Manton, California.

FOR FURTHER INFORMATION CONTACT: Ms. Mary Marshall, Reclamation, at 916-978-5248, TDD 916-978-5608, e-mail: mmarshall@mp.usbr.gov or Mr. Jim Canaday, SWRCB, at 916-341-5308, e-mail: jcanaday@waterrights.swrcb.ca.gov.

Dated: August 6, 2003.
Kenneth Lentz,
Chief, Scientific Support Branch, Mid-Pacific Region.

[FR Doc. 03-20572 Filed 8-12-03; 8:45 am]

BILLING CODE 4310-MN-P